DEPARTMENT OF AGRICULTURE

Submission for OMB Review; Comment Request

February 4, 2021.

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by March 11, 2021. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service (NASS)

Title: Agricultural Surveys Program—Substantive Change.

OMB Control Number: 0535-0213.

Summary of Collection: General authority for these data collection activities is granted under U.S. Code Title 7, Section 2204 which specifies that “The Secretary of Agriculture shall procure and preserve all information concerning agriculture which he can obtain . . . by the collection of statistics . . .”. The primary objective of the National Agricultural Statistics Service (NASS) is to provide data users with timely and reliable agricultural production and economic statistics, as well as environmental and specialty agricultural related statistics. To accomplish this objective, NASS relies on the use of diverse surveys that show changes within the farming industry over time.

The Agricultural Surveys Program is a combination of surveys utilizing several different sampling frames. Basic agricultural data is collected from farmers and ranchers throughout the nation and used to prepare agricultural estimates and forecasts of crop acreages, yields, and production; stocks of grains and oilseeds; hog and pig inventory; sheep inventory and lamb crop; goat and kid inventory; cattle inventory; cattle on feed, and land values. The surveys provide the basis for estimates of the current season's crop and livestock production and supplies of grain and oilseeds in storage. Survey results provide the foundation for setting livestock and poultry inventory numbers. Estimates derived from these surveys supply information needed by farmers to make decisions for both short- and long-term planning.

Due to the COVID-19 virus, numerous changes took place for the 2020 calendar year. The June Area Survey was suspended for 2020 and will be conducted again in 2021 and 2022. Normally, this survey relies on face to face interviews with farmers and ranchers. Instead the data from the 2019 survey was used to adjust for list incompleteness in 2020.

The 2021 June Area Survey will have the field level questions removed and only tract and whole farm data will be collected. This has been done so that the questionnaire can be conducted by telephone to allow for the continuation of social distancing.

The overall annual, average sample size for the Agricultural Surveys Program will remain at 551,600. No additional burden is being added for the changes included in this submission.

A detailed listing of the questions that have been updated are listed in the Supporting Statement Part A.

Need and Use of the Information: Uses of NASS statistical information are extensive and varied. The producer is the primary user; other users of agricultural statistics are farm organizations, agribusinesses, State and national farm policy makers, foreign buyers of agricultural products, universities, and various researchers. Federal farm programs require information on acreages, production potential, stocks, prices, and income. Agricultural statistics are used to plan and administer other related federal and State programs in such areas as consumer protection, conservation, foreign trade, education, and recreation. Estimates are used by producers to determine production and marketing strategies, by the agricultural industry to assess markets and potential demand for products, and by the federal government to analyze potential and actual production.

Some of the Federal agricultural agencies that use information from these surveys are the Economic Research Service, Foreign Agricultural Service, Agricultural Marketing Service, Farm Service Agency and the Risk Management Agency. The Bureau of Economic Analysis in the Department of Commerce is a major non-USDA agency that uses data from this information collection to prepare national and regional estimates of farm income and products. The Forest Service and Department of Interior use data collected on forage values to establish public land grazing rates in Western States.

Several agricultural agencies utilize NASS data to carry out programs required by legislation. Examples are the school lunch program, administration of marketing orders, grazing fee rates, and establishment of foreign trade policies. The Secretary of Agriculture uses information collected to help determine agricultural policy.

Description of Respondents: Farms and Ranches.

Number of Respondents: 551,600.

Frequency of Responses: Reporting: Two.

Total Burden Hours: 175,583.

Levi S. Harrell,
Departmental Information Collection Clearance Officer.

[FR Doc. 2021-02643 Filed 2-8-21; 8:45 am]

BILLING CODE 3410-20-P